DEPARTMENT OF COMMERCE

National Oceanic and Atmospheric Administration

RIN 0648-XY36

Endangered and Threatened Species; Initiation of 5-Year Review of the Eastern Distinct Population Segment of the Steller Sea Lion

AGENCY: National Marine Fisheries Service (NMFS), National Oceanic and Atmospheric Administration (NOAA), Commerce.

ACTION: Notice; reopening of comment period.

SUMMARY: NMFS published a notice in the Federal Register on June 29, 2010, announcing the initiation of a 5-year review of the eastern Distinct Population Segment (DPS) of the Steller Sea Lion (Eumetopias jubatus) under the Endangered Species Act of 1973, as amended (ESA) and requesting information related to that review. A notice correcting the email address and fax number to which comments and information should be sent was published July 7, 2010. Written comments were due by August 30, 2010. NMFS has decided to reopen the public comment period for an additional 45 days, to October 14, 2010.

DATES: The public comment period for this action has been reopened for an additional 45 days, to October 14, 2010. Written comments and information must be received no later than October 14, 2010.

ADDRESSES: You may submit information by any of the following methods:

• Mail: Kaja Brix, National Marine Fisheries Service, Alaska Region, Protected Resources Division, P.O. Box 21668, 709 West 9th Street, Juneau, AK 99802.

• E-mail: ssldps@noaa.gov. Include the following identifier in the subject line of the e-mail: “Comments on the 5-year review for the eastern DPS of Steller sea lion.”

• Fax: (907) 586-7557, attention: Kaja Brix.

Information received in response to this notice and review will be available for public inspection (by appointment, during normal business hours) at the above address.

FOR FURTHER INFORMATION CONTACT: Dr. Lisa Rotterman (907) 271-1692, lisa.rotterman@noaa.gov.

SUPPLEMENTARY INFORMATION:

Background

NMFS published a notice in the Federal Register on June 29, 2010, announcing the initiation of a 5-year review of the eastern Distinct Population Segment (DPS) of the Steller Sea Lion (Eumetopias jubatus) under the Endangered Species Act of 1973, as amended (ESA) and requesting information related to that review (75 FR 37385). A notice correcting the email address and fax number to which comments and information should be sent was published July 7, 2010 (75 FR 38979). Written comments were due by August 30, 2010. NMFS has decided to reopen the public comment period for an additional 45 days, to October 14, 2010.

Authority: 16 U.S.C. 1531 et seq.

Dated: August 25, 2010.
Therese Conant,
Acting Chief, Endangered Species Division, Office of Protected Resources, National Marine Fisheries Service.

[FR Doc. 2010-21708 Filed 8-30-10; 8:45 am]

BILLING CODE 3510-22-S